DEPARTMENT OF THE INTERIOR

Fish and Wildlife Service

[Docket No. FWS-HQ-NWRS-2025-1397; FXRS126109WSMU-267-FF09R24000; OMB Control Number 1018-NEW]

Agency Information Collection Activities; Interjurisdictional Invasive Species Rapid Response Team Program

AGENCY: Fish and Wildlife Service, Interior.

ACTION: Notice of information collection; request for comment.

SUMMARY: In accordance with the Paperwork Reduction Act of 1995 (PRA), we, the U.S. Fish and Wildlife Service (Service), are proposing a new information collection.

DATES: Interested persons are invited to submit comments on or before March 31, 2026.

ADDRESSES: Send your comments on the information collection request (ICR) by one of the following methods (please reference 1018-IInSRR in the subject line of your comments):

• Internet (preferred): https://www.regulations.gov. Follow the instructions for submitting comments on Docket No. FWS-HQ-NWRS-2025-1397.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (44 U.S.C. 3501 et seq.) and its implementing regulations at 5 CFR part 1320, all information collections require approval. We may not conduct or sponsor, and you are not required to respond to, a collection of information unless it displays a currently valid Office of Management and Budget (OMB) control number.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Department of the Interior (DOI) developed the conceptual foundation for an Interjurisdictional Invasive Species Rapid Response Team (IInSRRT) in 2023. Key authorities and frameworks authorizing the IInSRRT include:

1. Executive Order (E.O.) 13112 (as amended by E.O. 13751)—This order directs Federal agencies, including DOI, to prevent the introduction of invasive species, detect and respond rapidly to new invasions, and control and eradicate established invasive species. It also mandates restoration of native species and habitats impacted by invasives.

2. National Invasive Species Council (NISC)—DOI is a leading member of NISC, which coordinates federal efforts to address invasive species. The Council provides national leadership and policy guidance to improve the efficiency and effectiveness of federal responses.

3. The Fish and Wildlife Act (16 U.S.C. 742a-742k)—This law establishes a policy for fish, shellfish, and wildlife resources in the U.S. It protects and directs their management to support sustainable use and prevent over-exploitation.

4. The National Invasive Species Act of 1996 (16 U.S.C. 4701 et seq.)—This law prevents the introduction and spread of nonindigenous aquatic nuisance species into the waters of the U.S. through mandated regulations.

5. DOI Invasive Species Strategic Plan (2021-2025)—This strategic plan outlines DOI's vision and coordinated approach to managing invasive species across its bureaus. It emphasizes prevention, early detection, rapid response, control, and restoration, while promoting collaboration with Federal, State, Tribal, and private partners.

6. Bureau-Specific Authorities—Each DOI bureau (e.g., U.S. Fish and Wildlife Service, Bureau of Land Management, National Park Service) has specific mandates and operational authority to manage invasive species on the lands and waters they oversee. These efforts include prevention, control, eradication, and restoration activities across more than 500 million acres of public lands.

7. Cross-Agency Coordination—DOI works closely with other Federal agencies (e.g., U.S. Department of Agriculture and Department of Defense), State and Tribal governments, Territorial governments, and nongovernmental partners to implement invasive species management strategies and share resources.

Efforts are now underway to put that concept into action. An IInSRRT coordinator will work across the DOI and with partners to further develop and implement the program for nationally significant incidents warranting rapid response.

Rapid response to an early detection of an invasive species is one of the most effective ways to prevent these invasive species from becoming established and causing costly, long-term harm. Rapid response is defined as a process employed to eradicate the founding population of a non-native species from a specific location before it begins to reproduce or spreads so widely that eradication is no longer feasible. Capacity and funding to undertake rapid response can be limiting factors in implementing rapid response actions.

The purpose of the IInSRRT program is to build capacity for rapid response. The scope includes responding to new high-risk invasions of national significance or to species that have made a significant spatial jump from currently established locations, as appropriate to the DOI mission, and across multiple jurisdictions within DOI authorities. The program will increase resources available to support rapid response actions through interjurisdictional deployment teams and Incident Command System support. Importantly, this program builds on successful rapid response models within DOI such as the Service's Invasive Species Strike Teams and the National Park Service's Invasive Plant Management Teams while supporting work on and off DOI managed lands as requested by the lead resource management entity.

Response efforts will target new introductions to the U.S., including Alaska, Hawaii, and US territories, with a focus on aquatic and terrestrial invasive plants and animals that threaten nonagricultural systems. The focus also includes invasive species that have jumped significant spatial gaps or would lead to significant harm without intervention. Responses will not include pathogens at this time.

The program structure is composed of the IInSRRT coordinator, an IInSRRT guidance group, and deployment team members. The guidance group will provide guidance and support as needed and assist with planning, communications, and overall program operations. The deployment team will be composed of DOI employees that have technical skills in rapid response and relevant qualifications. The IInSRRT program will assist in achieving management objectives flowing from the National Early Detection and Rapid Response Framework and other local, regional, and national efforts.

Consideration of deployment will occur when the lead agency or agencies lack capacity and requests assistance. The application for assistance from a lead entity will require justification and is subject to approval by the IInSRRT coordinator and IInSRRT guidance group. The criteria to determine what merits a response and the process to request the team will be developed by the IInSRRT coordinator and guidance group.

The IInSRRT program will request the following types of information via the two forms described below:

1. Form 3-200-93, “Application for IInSRRT Incident Assistance” (New)—The Service proposes to collect the following categories of information via Form 3-200-93:

A. Requestor Information—Affiliation and point of contact information, to include name, title, email, location, and phone number.

B. Incident Response Narrative—Narrative should include summaries of the proposed objectives of the incident response.

C. Description of the Invasive Species—The description should provide a comprehensive overview of the species, including both its common and scientific names. It should summarize the impact of the species, particularly any effects on culturally significant resources. The narrative should also include a brief history of the species' global invasion, highlighting where and how it has spread. Finally, it should indicate whether this is the first known occurrence of the species in the United States or specifically within the affected region.

D. Location of Incident Response—The response should include the date the invasive species was first detected, along with a summary of the survey methods used to assess the extent of the introduction. This should also note the number of surveys conducted. An approximate area, in acres, where the species was found should be provided, including the level of certainty regarding that estimate. The narrative should describe the characteristics of the incident response location, such as the types of habitats present. It should also state whether the requesting entity is the land management authority for the proposed response area and whether the area overlaps with any other land management jurisdictions.

E. Response Details—The response should indicate whether any rapid response plans are currently in place for either the invasive species or the specific incident response location. It should include a summary of the treatment or control methods proposed for managing the incident, such as mechanical, chemical, or biological tools. Additionally, the narrative should outline the resources available or needed—including tools, staffing, and partner support—to effectively carry out the response.

An estimated timeframe for addressing the incident should be provided, along with the latest possible start date by which eradication is still considered feasible. This estimate should reflect the applicant's best judgment and include their level of certainty regarding that timeline.

F. Compliance with Rules and Regulations—The response should indicate whether any National Environmental Policy Act (NEPA) consultations have already been completed that are applicable to the proposed incident response. If so, relevant documentation should be attached. It should also state whether any NEPA Categorical Exclusions may apply to the proposed activities. Additionally, the narrative should address whether there are any federally listed species or habitats within the proposed incident response location. If applicable, the specific species and/or habitats should be named.

The response should also confirm whether there are any historic or potentially historic properties within the incident area that may require consideration under the National Historic Preservation Act or related laws. Finally, the narrative should identify any other applicable compliance requirements—such as federal, state, or tribal regulations—and describe any plans in place to address them.

G. Species Risk Level—The response should indicate whether the species involved in the proposed incident response has undergone any formal risk screenings or has been included in any horizon scans or watch lists. If applicable, the narrative should list the specific screenings or scans, along with their overall risk ratings (e.g., high risk, moderate risk, low risk). Copies of the relevant documents should be attached to the application to support the assessment.

H. Post-response Plans—The response should indicate whether the requesting entity has the resources and capacity to monitor the site following the incident response. It should also include a summary of the post-monitoring plan, outlining how the entity will assess whether the invasive species has been successfully eradicated. This may include details such as the frequency and duration of monitoring, survey methods, and criteria for confirming eradication.

We will use the information collected via Form 3-202-93 to consider the application for rapid response to new invasive species and whether the request is within the scope and feasibility for the IInSRRT program to activate.

2. Form 3-202-58, “Response Monitoring Report” (New)—The Service proposes to collect the following types of information via Form 3-202-58:

A. Background Information and Introduction—The response should indicate a summary of the incident response, the dates of the reporting period, and the reporting entities information.

B. Post-response Monitoring Efforts- The response should summarize the survey efforts completed post incident response.

C. Post-response Summary- The response should summarize the current results from post-response monitoring efforts.

We will use the information collected via Form 3-202-58 to monitor the potential eradication of the target invasive species.

The public may request a copy of Forms 3-200-93 and 3-202-58 by sending a request to the Service Information Collection Clearance Officer (see ADDRESSES, above).

Title of Collection: Interjurisdictional Invasive Species Rapid Response Team Program.

OMB Control Number: 1018-New.

Form Number: FWS Forms 3-200-93 and 3-202-58.

Type of Review: New.

Respondents/Affected Public: State, local, and Tribal governments.

Respondent's Obligation: Required to obtain or retain a benefit.

Frequency of Collection: On occasion for applications and monitoring reports.

Total Estimated Annual Nonhour Burden Cost: None.

Requirement | Average number of annual respondents | Average number of responses each | Average number of annual responses | Average completion time per response | Estimated annual burden hours
Form 3-200-93, “Application for IInSRRT Incident Assistance”
Government | 20 | 1 | 20 | 2 | 40
Form 3-202-58, “Response Monitoring Report”
Government | 2 | 2 | 4 | 60 | 240
Totals | 22 |  | 24 |  | 280

The authority for this action is the Paperwork Reduction Act of 1995 (44 U.S.C. 3501 et seq.).

Madonna Baucum,
Information Collection Clearance Officer, U.S. Fish and Wildlife Service.

[FR Doc. 2026-01873 Filed 1-29-26; 8:45 am]

BILLING CODE 4333-15-P